DEPARTMENT OF DEFENSE

Office of the Secretary

Modifying the Charter of a Department of Defense Federal Advisory Committee

AGENCY: Department of Defense.

ACTION: Federal advisory committee charter modification.

SUMMARY: Under the provisions of the Federal Advisory Committee Act of 1972, (5 U.S.C. Appendix), the Government in the Sunshine Act of 1976 (5 U.S.C. 552b), and 41 CFR 102-3.50(d), the Department of Defense gives notice that it is modifying the charter for the Defense Science Board (hereafter referred to as the Board).

FOR FURTHER INFORMATION CONTACT: Contact Jim Freeman, DoD Committee Management Office, 703-601-6128.

SUPPLEMENTARY INFORMATION: The Defense Science Board, pursuant to 41 CFR 102-3.50(d), is a discretionary federal advisory committee established to provide the Secretary of Defense, the Deputy Secretary of Defense, the Under Secretary of Defense for Acquisition, Technology and Logistics, the Chairman of the joint Chiefs of Staff and, as requested, other Office of the Secretary of Defense (OSD) Principal Staff Assistants, the Secretaries of the Military Departments, the Commanders of the Combatant Commands, independent advice and recommendations on scientific, technical, manufacturing, acquisition process, and other matters of special interest to the Department of Defense.

Pursuant to DoD policy, the under Secretary of Defense for Acquisition, Technology and Logistics or designated representative shall be authorized to act upon the advice and recommendations of the Board.

The Board shall be composed of not more than 45 members and not more than 12 Senior Fellow members, who are eminent authorities in the fields of scientific, technical, manufacturing, acquisition process, and other matters of special interest to the Department of Defense.

The Board members shall be appointed by the Secretary of Defense, and their appointments will be renewed on an annual basis. Those members, who are not full-time federal officers or employees, shall be appointed as experts and consultants under the authority of 5 U.S.C. 3109, and serve as special government employees.

Members may be appointed for terms ranging from one to four years. Such appointments will normally be staggered among the Board membership to ensure an orderly turnover in the Board's overall composition on a periodic basis. With the exception of travel and per diem for official travel, they shall normally serve with compensation, unless otherwise authorized by the appointing authority.

The Secretary of Defense, based upon the recommendation of the Under Secretary of Defense for Acquisition, Technology and Logistics, shall appoint the Board's Chairperson. The Under Secretary of Defense for Acquisition, Technology and Logistics, shall appoint the Vice Chairperson. The Board Chairman and Vice Chairman shall serve two-year terms and, with the Secretary of Defense's approval may serve additional terms.

The Secretary of Defense may invite other distinguished U.S. Government officers to serve as non-voting observers, and the Under Secretary of Defense for Acquisition, Technology and Logistics may invite chairpersons from other DoD-supported federal advisory committees to serve as non-voting observers.

The Under Secretary of Defense for Acquisition, Technology and Logistics may appoint experts and consultants, with special expertise, to assist the Board on an ad hoc basis. These experts and consultants, appointed under the authority of 5 U.S.C 3109, shall also serve as special government employees, however, they shall have no voting rights on the Board.

Non-voting observers and those non-voting experts and consultants appointed by the Under Secretary of Defense for Acquisition, Technology and Logistics shall not count toward the Board's total membership.

The Board shall meet at the call of the Board's Designated Federal Officer, in consultation with the Chairperson. The estimated number of Board meetings is four per year.

The Designated Federal Officer, pursuant to DoD policy, shall be a full-time or permanent part-time DoD employee, and shall be appointed in accordance with established DoD policies and procedures.

In addition, the Designated Federal Officer is required to be in attendance at all meetings, however, in the absence of the Designated Federal officer, the Alternate Designated Federal officer shall attend the meeting.

With DoD approval, the Board shall is authorized to establish subcommittees, as necessary and consistent with its mission. These subcommittees or working groups shall operate under the provisions of the Federal Advisory Committee Act of 1972 (5 U.S.C., Appendix, as amended), the Government in the Sunshine Act of 1976 (5 U.S.C. 552b, as amended), and other appropriate Federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board members.

Subcommittee members, who are not Board members, shall be appointed in the same manner as the Board members.

Pursuant to 41 CFR 102-3.105(j) and 102-3.140, the public or interested organizations may submit written statements to the Defense Science Board membership about the committee's mission and functions. Written statements may be submitted at any time or in response to the stated agenda of planned meeting of the Defense Science Board.

All written statements shall be submitted to the Designated Federal Officer for the Defense Science Board, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Science Board. The Designated Federal Officer, at that time, may provide additional guidance on the submission of written statements that are in response to the stated agenda for the planned meeting in question.

Dated: October 19, 2009.
Patricia L. Toppings,
OSD Federal Register Liaison Officer, Department of Defense.

[FR Doc. E9-25704 Filed 10-23-09; 8:45 am]

BILLING CODE 5001-06-P